DEPARTMENT OF HEALTH AND HUMAN SERVICES

Centers for Medicare and Medicaid Services

[CMS-10080, CMS-R-262, CMS-R-13, and CMS-484]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: New collection; Title of Information Collection: Publications Use Study; Form No.: CMS-10080 (OMB# 0938-NEW); Use: CMS/CBC needs to conduct this research to evaluate how CMS meets beneficiaries' informational needs about health care benefits and choices, as directed by the Balanced Budget Act of 1997. This telephone survey will gather data on publications users' demographics, usage patterns, and attitudes toward Medicare publications. Research findings will support the improvement of an dissemination of Medicare publications; Frequency: Quarterly; Affected Public: Individuals or households; Number of Respondents: 3,000; Total Annual Responses: 3,000; Total Annual Hours: 850.

(2) Type of Information Collection Request: Revision of a currently approved collection; Title of Information Collection: The Adjusted Community Rate (ACRP) Medicare+Choice (M+C) Plan Benefit Package (PBP) and Supporting Regulations in 42 CFR 417.401, 422.1-422.10, 422.50-422.80, 422.100-422.132, and 422.300-422.312. Form No.: CMS-R-262 (OMB# 0938-0763); Use: Under part C of the Social Security Act, a Medicare+Choice (M+C) organization is required to offer at least one plan benefit package that is approved and prices properly to all Medicare beneficiaries residing in the plan service area. This software is used by M+C organizations to describe their plan benefit package(s); Frequency: On occasion, annually, and as required by new legislation; Affected Public: Business or other for-profit and not-for-profit institutions; Number of Respondents: 200; Total Annual Responses: 200; Total Annual Hours: 600.

(3) Type of Information Collection Request: Extension of a currently approved collection; Title of Information Collection: Conditions of Coverage for Organ Procurement Organizations (OPOs) and Supporting Regulations in 42 CFR, Section 486.301-.325. Form No.: CMS-R-13 (OMB# 0938-0688); Use: OPOs are required to submit accurate data to CMS concerning population and information on donors and organs on an annual basis in order to assure maximum effectiveness in the procurement and distribution of organs; Frequency: Annually; Affected Public: Not-for-profit institutions; Number of Respondents: 59; Total Annual Responses: 59; Total Annual Hours: 1.

(4) Type of Information Collection Request: Extension of a currently approved collection; Title of Information Collection: Attending Physician's Certification of Medical Necessity for Home Oxygen Therapy and Supporting Regulations 42 CFR 410.38 and 42 CFR 424.5; Form No.: 0938-0534 (CMS-484); Use: This form is used to determine if oxygen is reasonable and necessary pursuant to Medicare Statute; Medicare claims for home oxygen therapy must be supported by the treating physician's statement and other information including estimate length of need (# of months), diagnosis codes (ICD-9) etc.; Frequency: As needed; Affected Public: Business or other for-profit; Number of Respondents: 175,000; Total Annual Responses: 500,000; Total Annual Hours: 50,000.

To obtain copies of the supporting statement and any related forms for the proposed paperwork collections referenced above, access CMS's Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room: C5-14-03, 7500 Security Boulevard, Baltimore, Maryland 21244-1850.

Dated: January 2, 2003.
John P. Burke, III,
CMS Reports Clearance Officer, Office of Strategic Operations and Strategic Affairs, Division of Regulations Development and Issuances.

[FR Doc. 03-482 Filed 1-9-03; 8:45 am]

BILLING CODE 4120-03-P